DEPARTMENT OF COMMERCE

National Oceanic and Atmospheric Administration

RIN 0648-XE785

Caribbean Fishery Management Council; Public Meeting

AGENCY: National Marine Fisheries Service (NMFS), National Oceanic and Atmospheric Administration (NOAA), Commerce.

ACTION: Notice of a public meeting.

SUMMARY: The Caribbean Fishery Management Council (Council) will hold its 157th meeting.

DATES: The meeting will be held on August 23-24, 2016. The Council will convene on Tuesday, August 23, 2016, from 9 a.m. to 5:30 p.m., and will reconvene on Wednesday, August 24, 2016, from 9 a.m. to 5 p.m.

ADDRESSES: The meeting will be held at the Condado Vanderbilt Hotel, Condado Avenue, Condado, San Juan, Puerto Rico.

FOR FURTHER INFORMATION CONTACT: Caribbean Fishery Management Council, 270 Muñoz Rivera Avenue, Suite 401, San Juan, Puerto Rico 00918; telephone: (787) 766-5926.

SUPPLEMENTARY INFORMATION: The Council will hold its 157th regular Council Meeting to discuss the items contained in the following agenda:

August 23, 2016, 9 a.m.-5:30 p.m.

○ Call to Order

○ Election of Officers

○ Adoption of Agenda

○ Consideration of 156th Council Meeting Verbatim Transcriptions

○ Executive Director's Report

○ Scientific and Statistical Committee Report—Dr. Richard Appeldoorn

—Island Based Fishery Management Plans (IBFMPs)

—Acceptable Biological Catch Control Rule

○ Island Based Fishery Management Plans (IBFMPs)

—Goals and Objectives of IBFMPs

—Review Action 1: Species to include for Federal Management in each IBFMP

—Review Action 2: Review Consolidated List of Stocks, and Stock and Species Complexes

—Review Action 3: Reference Points

—Update SEDAR 46 U.S. Caribbean Data Limited Species-Southeast Fisheries Science Center

—ABC Control Rule Work Group Report

—Recommendations to the CFMC on ABC Control Rule

—Consider Action 4: Framework Procedures for IBFMPs

—Consider Essential Fish Habitat (EFH) Designation for New Species in the IBFMPs and 5-year Review of EFH FMP

○ CFMC Roadmap to Complete IBFMPs

○ Data Collection in the USVI—Ruth Gómez

○ Developing a Commercial Permit Program for the Snapper Unit 2 Fishery Operating in Puerto Rico EEZ Waters—Reconsideration of DRAFT Scoping Document

—PUBLIC COMMENT PERIOD—(5-minutes presentations)

August 24, 2016, 9 a.m.-5 p.m.

○ Timing of Accountability Measures

—Results from Public Hearings

Next Step: Consider taking final action/Review codified text

○ Development of Regulatory Amendment regarding ACL Overages and Application of Accountability Measures: Sector vs. Total ACL within a Fishery Management Unit

○ Reports to CFMC

—Standing Committee for Recreational Sampling Plan Development

—Connectivity Studies Seasonally Closed Areas off the West Coast of Puerto Rico: Fish Larvae Sources and Sinks. Where do Fish Larvae go to when Spawned in the ABT?—Dr. Jorge Capella

—2015 Spiny Lobster Survey Results—Aida Rosario

—Pelagic Fish Distribution—Ricardo López

○ Enforcement Issues

—Bottom Tending Gear: Legal Definition of Gear, Regulations in Place in Seasonally Closed Areas in the EEZ

—Atlantic HMS Caribbean Fisheries—Delisse Ortiz

○ Outreach and Education Report—Dr. Alida Ortíz

○ MREP Update—Helena Antoun

○ Enforcement Reports:

—Puerto Rico-DNER

—U.S. Virgin Islands-DPNR

—U.S. Coast Guard

—NMFS/NOAA

○ Meetings Attended by Council Members and Staff

PUBLIC COMMENT PERIOD—(5-minute presentations)

○ Other Business

○ Next Meeting(s)

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: August 3, 2016.
Tracey L. Thompson,
Acting Deputy Director, Office of Sustainable Fisheries, National Marine Fisheries Service.

[FR Doc. 2016-18775 Filed 8-8-16; 8:45 am]

BILLING CODE 3510-22-P